DEPARTMENT OF HEALTH AND HUMAN SERVICES

Food and Drug Administration

[Docket No. 2004N-0408]

Regulatory Site Visit Training Program; Correction

AGENCY: Food and Drug Administration, HHS.

ACTION: Notice; correction.

SUMMARY: The Food and Drug Administration is correcting a notice that appeared in the Federal Register of April 11, 2006. The document reannounced the invitation for participation in its Regulatory Site Visit Training Program. The document was published with an incorrect e-mail address. This document corrects that error.

FOR FURTHER INFORMATION CONTACT: Joyce A. Strong, Office of Policy (HF-27), Food and Drug Administration, 5600 Fishers Lane, Rockville, MD 20857, 301-827-7010.

SUPPLEMENTARY INFORMATION: In FR Doc. E6-5221, appearing on page 18340 in the Federal Register of Tuesday, April 11, 2006, the following correction is made:

1. On page 18340, in the third column, in the last sentence under the “ADDRESSES” caption and under the “FOR FURTHER INFORMATION CONTACT” caption, the e-mail address is corrected to read matt@cber.fda.gov.

Dated: April 18, 2006.
Jeffrey Shuren,
Assistant Commissioner for Policy.

[FR Doc. E6-6120 Filed 4-24-06; 8:45 am]

BILLING CODE 4160-01-S